FEDERAL COMMUNICATIONS COMMISSION

47 CFR Part 73

[DA 05-27; MB Docket No. 05-3; RM-11132]

Radio Broadcasting Services; Grand Isle and St. Albans, Tupper Lake and Vermont, NY

AGENCY: Federal Communications Commission.

ACTION: Proposed rule.

SUMMARY: This document requests comments on a petition for rule making filed by Champlain Communications Corp. (“Petitioner”), licensee of Station WLFE-FM, Channel 272A, St. Albans, Vermont. Petitioner requests that the Commission upgrade Channel 272A to Channel 272C3 and reallot Channel 272C3 from St. Albans to Grand Isle, Vermont, thus providing Grand Isle with its first local aural transmission service. To accommodate the foregoing changes, FM Station WRGR, Channel 272A, Tupper Lake, New York, has agreed to substitute Channel 271C3 for Channel 272A and move its transmitter to a new site. The coordinates for proposed Channel 272C3 at Grand Isle, Vermont, are 44-44-07 NL and 73-30-57 WL with a site restriction of 17.4 kilometers (10.8 miles) west of Grand Isle. The coordinates for proposed Channel 271C3 at Tupper Lake are 44-07-21 NL and 74-31-52 WL, with a site restriction of 12.6 kilometers (7.8 miles) southwest of Tupper Lake.

DATES: Comments must be filed on or before March 3, 2005, and reply comments on or before March 18, 2005.

ADDRESSES: Secretary, Federal Communications Commission, 445 12th Street, SW., Room TW-A325, Washington, DC 20554. In addition to filing comments with the FCC, interested parties should serve Petitioner's counsel, as follows: Barry A. Friedman, Esq., Thompson Hine LLP; 1920 N Street, NW., Suite 800; Washington, DC 20036-1600.

FOR FURTHER INFORMATION CONTACT: R. Barthen Gorman, Media Bureau, (202) 418-2180.

SUPPLEMENTARY INFORMATION: This is a synopsis of the Commission's Notice of Proposed Rule Making, MB Docket No. 05-3, adopted January 5, 2005, and released January 10, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under New York, is amended by removing Channel 272A and by adding Channel 271C3 at Tupper Lake.

3. Section 73.202(b), the Table of FM Allotments under Vermont, is amended by removing St. Albans, Channel 272A and by adding Grand Isle, Channel 272C3.

Federal Communications Commission.
John A. Karousos,
Assistant Chief, Audio Division, Media Bureau.

[FR Doc. 05-1358 Filed 1-25-05; 8:45 am]

BILLING CODE 6712-01-P